DEPARTMENT OF HEALTH AND HUMAN SERVICES

National Committee on Vital and Health Statistics; Meeting and Request for Information

AGENCY: Centers for Disease Control and Prevention, HHS.

ACTION: Notice of meeting. Notice of request for information (RFI).

SUMMARY: Pursuant to the Federal Advisory Committee Act, the Department of Health and Human Services (HHS) announces the following advisory committee meeting and related Request for Information (RFI). The meeting is open to the public. The public is invited and welcome to obtain the link to attend this meeting by following the instructions posted on the Committee website: https://ncvhs.hhs.gov/meetings-meeting/.

DATES: The meeting will be held Thursday, August 3, 2023: 10:00 a.m.-5:30 p.m. EDT.

To submit comments in response to the RFI, please send by close of business June 30, 2023, to NCVHSmail@cdc.gov, and include on the subject line: Response from [your organization or name] regarding ICD-11 RFI.

ADDRESSES: Virtual open meeting.

FOR FURTHER INFORMATION CONTACT: Substantive program information may be obtained from Rebecca Hines, MHS, Executive Secretary, NCVHS, National Center for Health Statistics, Centers for Disease Control and Prevention, 3311 Toledo Road, Hyattsville, Maryland 20782, via electronic mail to vgh4@cdc.gov; or by telephone (301) 458-4715. Summaries of meetings and a roster of Committee members are available on the home page of the NCVHS website https://ncvhs.hhs.gov/, where further information including an agenda and instructions to access the broadcast of the meeting will be posted.

Should you require reasonable accommodation, please telephone the CDC Office of Equal Employment Opportunity at (770) 488-3210 as soon as possible.

SUPPLEMENTARY INFORMATION:

Name: National Committee on Vital and Health Statistics (NCVHS).

Meeting of the Workgroup on Timely and Strategic Action to Inform ICD-11 Policy.

The National Committee on Vital and Health Statistics was established by Congress to serve as the statutory [42 U.S.C. 242k(k)] advisory body to the Secretary of Health and Human Services for health data, statistics, privacy and national health information policy and the Health Insurance Portability and Accountability Act (HIPAA).¹ In that capacity, the Committee provides advice and assistance to the Department and serves as a forum for interaction with interested private sector groups on health data issues. It fulfills important review and advisory functions regarding health data and administrative standards of national and international scope, conducts studies of prevailing current topics, and makes recommendations for improvement of the Nation's health statistics and information systems.

¹ Public Law 104-191, 110 Stat. 1936 (Aug 21, 1996), available at: https://www.congress.gov/104/plaws/publ191/PLAW-104publ191.pdf.

Purpose: The purpose of the International Classification of Diseases (ICD-11) expert roundtable meeting is to gather information and identify gaps in currently available information and research essential for analysis and policy decisions on the U.S. approach to support adoption and implementation of ICD-11 for morbidity. A supplemental goal is to enable coordination of public and private entities that may affect ICD-11 integration into U.S. health information environments by obtaining broad stakeholder input on studies or assessments HHS should undertake to inform the transition and on what timeline. Together with comments received in response to the RFI, the input received at the roundtable will inform the Workgroup's findings to be provided to the full Committee in contemplation of recommendations to the Secretary of HHS. The agenda for the meeting will include time for public comment. Meeting times and topics are subject to change.

Background on ICD-11: The International Classification of Diseases (ICD) is the global standard for health data, clinical documentation, and statistical aggregation. It provides a common language for recording, reporting, and monitoring diseases, allowing the world to compare and share data in a consistent and standard way—among hospitals, regions, and countries, and over periods of time. It facilitates the collection and storage of data for analysis and evidence-based decision-making by enabling systematic recording, reporting, analysis, interpretation, and comparison of mortality and morbidity data.

ICD-11 allows countries to count and identify their most pressing health issues using an up-to-date and clinically relevant classification system.2 3 4 Governments assign ICD-11 codes to health conditions and accidents so data can be used to design effective public health policies and measure their impacts, or so that clinicians can use the data for recording encounters with patients in a standard way.

² ICD-11 was adopted at the World Health Assembly in May 2019 and Member States committed to start using it for mortality and morbidity reporting in 2022. Since 2019, early adopter countries, translators, and scientific groups have recommended further refinements to produce the version that is posted online today. World Health Organization (WHO) Press Release. (February 11, 2022): https://paho.org/en/news/11-2-2022-whos-new-international-classification-diseases-icd-11-comes-effect.

³ WHO ICD-11 website: https://icd.who.int/en.

⁴ WHO ICD-11 Fact Sheet: https://icd.who.int/en/docs/icd11factsheet_en.pdf.

Request for Information: This Notice also serves as a Request for Information (RFI) addressing the potential use of ICD-11 for morbidity coding in the U.S. We welcome responses from industry stakeholders, interested individuals and organizations, or any members of the public in advance of the August 3, 2023, expert roundtable meeting. The following questions are a guide to information the Workgroup would find particularly helpful, but respondents are invited to comment on any aspect of ICD-11 that they wish.

1. What would be the benefits of implementing ICD-11 for morbidity in your setting or organization?

2. What information or research will your organization need in order to inform assessments of cost, benefits, implementation approaches, communications, and outreach regarding the transition to ICD-11? Respondents may choose to refer to NCVHS' most recent recommendations to HHS for proposed research questions, many of which HHS has not yet addressed.⁵

⁵ NCVHS Letter to HHS Secretary, “Updated Recommendations for Immediate Action on ICD-11 (September 10, 2021): https://ncvhs.hhs.gov/wp-content/uploads/2021/09/NCVHS-ICD-11-recommendations-for-HHS-Sept-10-2021-Final-508.pdf.

3. What considerations affect the impact of ICD-11 on clinical documentation, payment processes including risk adjustment, public health, population health, or research?

4. What unique U.S. coding or terminology considerations are essential? For example, coding or terminology related to community health, social determinants of health, essential human needs, sexual orientation, gender identity and expression, obesity, external cause of injury, and information about mental, behavioral, or neurodevelopmental disorders including alignment with the Diagnostic And Statistical Manual of Mental Disorders, Fifth Edition (DSM-5)?

5. How should HHS implement ICD-11 in the U.S. for morbidity coding?

6. The World Health Organization (WHO) recommends establishing a national center for ICD-11 implementation. What entity should be responsible for coordinating overall national implementation of ICD-11 for morbidity coding, and how should the implementation be managed?

7. ICD-11 uses an open process in which WHO encourages requests for updates and changes, thus eliminating the main drivers of national clinical modifications. What entity should be responsible for coordinating U.S. requests for updates or changes to ICD-11? How should this process be managed?

8. What resources, tools, or support will your organization need for implementation?

9. What kinds of technical resources, guidance, or tools should the U.S. Federal Government make available?

10. What workforce, workforce planning, or training will your organization need to support implementation?

11. What are your organization's requirements for ICD-11 mapping to other coding systems and terminologies, including value sets?

12. What other operational impacts of ICD-11 adoption and implementation should HHS consider?

The Committee will compile submitted responses in advance of the August 3, 2023, meeting and consider them together with input from subject matter experts during the meeting. To submit comments in response to the RFI, please send by June 30, 2023, to NCVHSmail@cdc.gov and include on the subject line: Response from [your organization or name] regarding ICD-11 RFI.

Sharon Arnold,
Associate Deputy Assistant Secretary, Office of Science and Data Policy, Office of the Assistant Secretary for Planning and Evaluation.

[FR Doc. 2023-12617 Filed 6-12-23; 8:45 am]

BILLING CODE 4150-05-P